DEPARTMENT OF THE INTERIOR

National Park Service

[NPS-WASO-D-COS-POL-32541; PPWODIREP0; PPMPSAS1Y.YP0000]

Request for Nominations for the National Park System Advisory Board

AGENCY: National Park Service, Interior.

ACTION: Notice.

SUMMARY: The National Park Service is seeking nominations for individuals to be considered for appointment to the National Park System Advisory Board (Board). The Board advises the Secretary of the Interior (Secretary) and the Director of the National Park Service (Director) on matters relating to the National Park Service (NPS), the National Park System, and programs administered by the NPS; the designation of National Historic Landmarks and National Natural Landmarks; and the national historic significance of proposed National Historic Trails. The Board is regulated by the Federal Advisory Committee Act (FACA).

DATES: Nominations must be postmarked by January 24, 2022.

ADDRESSES: Nominations should be emailed to Joshua Winchell, Staff Director, National Park System Advisory Board, National Park Service, at joshua_winchell@nps.gov.

FOR FURTHER INFORMATION CONTACT: Joshua Winchell, telephone number (202) 641-4467, or email joshua_winchell@nps.gov.

SUPPLEMENTARY INFORMATION: The Board shall be comprised of no more than 12 persons, appointed from among citizens of the United States having a demonstrated commitment to the mission of the NPS. Board members shall be selected to represent various geographic regions across the United States of America.

We are requesting nominations to fill vacancies for Board members in the categories listed below:

(1) Persons who have outstanding expertise in the physical and/or social sciences, such as history or geography; archeology or anthropology; historical or landscape architecture; or biology, ecology, geology, or marine sciences;

(2) persons having outstanding experience in the management of national or state parks; forests, wildlife refuges, or other protected natural areas; historic areas or sites; or have an extensive background in natural or cultural resources management.

(3) persons having outstanding expertise in professional or scientific disciplines that are important to the mission of the National Park Service, such as financial management or business development; historical or recreational land use management or planning; or business management, marketing or entrepreneurship.

Among all categories at least one appointment will be a person who serves as a locally elected official from an area adjacent to a national park unit, and at least one person will be a military veteran or has a physical impairment. The Secretary will also seek to appoint at least one member of a Tribe.

Nominations must include a resume providing an adequate description of the nominee's qualifications, including information that would enable the Department of the Interior to make an informed decision regarding meeting the membership requirements of the Board and permit the Department to contact a potential member.

Members of the Board are appointed as special Government employees (SGEs) and are therefore subject to applicable Federal ethics statutes and regulations, to include applicable exceptions and exemptions. Additionally, SGE members are required, prior to appointment and annually thereafter, to file a Confidential Financial Disclosure Report. SGE members are also required to receive initial ethics training prior to performing any Board duties and to receive annual ethics training thereafter. The Department of the Interior will provide materials to those members serving as special Government employees, explaining their ethical obligations. You may find a copy of the Confidential Financial Disclosure Report at the following website: https://www.doi.gov/ethics/special-government-employees/financial-disclosure. Please contact (202) 208-7960 or DOI_Ethics@sol.doi.gov with any questions about the ethics requirements for members appointed as SGEs.

Members serve without compensation. However, while away from their homes or regular places of business in the performance of services for the Board as approved by the Designated Federal Officer, members may be allowed travel expenses, including per diem in lieu of subsistence.

Authority: 5 U.S.C. Appendix 2

Alma Ripps,
Chief, Office of Policy.

[FR Doc. 2021-26809 Filed 12-9-21; 8:45 am]

BILLING CODE 4312-52-P